DEPARTMENT OF ENERGY

Energy Information Administration

Agency Information Collection Activities: Proposed Collection; Comment Request

AGENCY: Energy Information Administration (EIA), Department of Energy (DOE).

ACTION: Agency information collection activities: proposed collection; comment request.

SUMMARY: The Energy Information Administration (EIA) is soliciting comments concerning proposed revisions to the Form EIA-846A/C, “Manufacturing Energy Consumption Survey.”

DATES: Comments must be filed by October 25, 2002. If you anticipate difficulty in submitting comments within that period, contact the person listed below as soon as possible.

ADDRESSES: Send comments to Robert K. Adler. To ensure receipt of the comments by the due date, submission by FAX (202-586-0018) or e-mail (robert.adler@eia.doe.gov) is recommended. The mailing address is Energy Consumption Division, EI-63, Forrestal Building, U.S. Department of Energy, Washington, DC 20585-0660. Alternatively, Mr. Adler may be contacted by telephone at 202-586-1134.

FOR FURTHER INFORMATION CONTACT: Requests for additional information or copies of any forms and instructions should be directed to Robert K. Adler at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The Manufacturing Energy Consumption Survey (MECS) is a mail survey designed to collect energy consumption and expenditures data from establishments in the manufacturing sector; i.e., North American Industry Classification System (NAICS) codes 31-33. There are three MECS data collection forms and their use depends on an establishment's primary business activity classification under NAICS. Form EIA-846A collects information for all the manufacturing industries contained within NAICS 31-33 except for NAICS 321, 322, 324, 325, and 331111. Form EIA-846B is for establishments operating primarily in the petroleum refining industry (NAICS 324110). Form EIA-846C is for establishments in NAICS 321, 322, 324 (except 324110), 325 and 331111.

The 2002 MECS will collect information during 2003 for business activities in calendar year 2002. For the 2002 MECS, EIA proposes to collect the following data from each MECS establishment: (1) For each energy source consumed—consumption (total, fuel and nonfuel uses) and the expenditures for each energy source, energy storage (as applicable), and energy produced onsite; (2) energy end uses; (3) general energy-saving technologies; (4) energy management activities; (5) square footage and number of buildings in the establishment; (6) fuel-switching capabilities; and (7) use of equipment and behaviors associated with the adaption to the digital economy.

The MECS has been conducted five times previously, covering the years 1985, 1988, 1991, 1994, and 1998. In all five survey years, the MECS has collected baseline data on manufacturers' energy consumption and expenditures. The MECS collected data on fuel-switching capabilities in all years except 1998. In the 1991,1994, and 1998 surveys, the MECS also collected data on end-uses, energy management technologies, building square footage, and energy-saving technologies.

The MECS information is the basis for data and analytic products that can be found in http://www.eia.doe.gov/emeu/mecs. Also on this website are past publications, articles, and a special analytic series, “Industry Analysis Briefs.” The 2002 MECS will also be used to benchmark EIA's industry forecasting model and update changes in the energy intensity and greenhouse gases data series.

The proposed 2002 MECS uses experience gained from the administration and processing of the five previous surveys and past consultations with respondents, trade association representatives, and data users. EIA has completed a web-based survey of users to obtain their advice and needs for data. The results of that survey can be found at http://tonto.eia.doe.gov/mecs/mecs2002/user_needs/results.html.

II. Current Actions

EIA proposes making several changes from the 1998 MECS for use in the 2002 MECS. The MECS will reinstate the fuel-switching capability data collection questions that last appeared in the 1994 survey. Volatility in energy prices during periods since the 1998 survey coupled with a need to reestablish baseline data have led to its reinstatement. To compensate for the added respondent burden and cost to the government of collecting fuel-switching data, EIA intends to delete the questions on industry-specific technologies. Those questions have proven difficult to keep up-to-date and by themselves cannot give information on the extent to which such technologies influence energy consumption at the manufacturing establishment. The number of additional data items required to do that would be prohibitive. EIA will reexamine the collection of the industry-specific technologies in the future.

EIA is also exploring ways in which the MECS can collect data which would cover energy issues in the area of the digital economy. “Check-off” type questions would be added that would ask about the use of manufacturing controls and real-time electricity price response. Additionally, the number of MECS sample cases would be increased to enable a more detailed breakout of NAICS 334, “Computer and Electronic Product Manufacturing.” The additional questions and sample depend on upcoming funding levels.

EIA would like to address certain data quality and reconciliation issues. A question under consideration for addition would ask MECS respondents to identify by name their suppliers of residual fuel oil and possibly other types of energy source suppliers, most likely natural gas. This reporting would be used to identify frame differences with other EIA reporting systems. The same level of strict confidentiality would be maintained for these data items that is in place for the rest of the MECS.

A second small set of proposed new questions would involve the issue of onsite electricity generation. In order to understand the changing financial and operational relationship between manufacturing establishments and associated power generating equipment brought about by electricity restructuring, EIA wants to quantify more exactly the extent to which those generation facilities are being sold to other entities, in whole or in part, and how that change of ownership would affect MECS reporting. Further, there may be a related question about the types of ownership arrangements that could occur.

A third area of interest is the reporting by petroleum refineries. EIA is reexamining the issue of co-located petrochemical plants and whether the current MECS is addressing energy flows properly in order for an energy accounting to be complete and nonduplicative. This reexamination may necessitate some changes in the special refinery form EIA-846B . In all the proposed data quality additions, the expected respondent burden increases would be minimal.

The 1998 MECS made the transition from the Standard Industrial Classification (SIC) system to NAICS. To aid in that transition, the major energy consumption tables were presented in terms of both industry classification systems. EIA was able to do that for the 1998 MECS because each manufacturing establishment in the MECS sample carried both a NAICS code and an SIC code. For the 2002 MECS, only the NAICS classifications will be maintained and thus data presentations will be in terms of NAICS only.

Besides the changes already discussed, the content of the 2002 MECS will be largely unchanged from the 1998 survey. The questionnaire will again be primarily in a question-answer format as opposed to the matrix style presentation. The MECS information products will continue to present Census Region level data as well as national data.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average eight hours per response for Form EIA-846A, seven hours per response for Form EIA-846B, and nine hours per response for Form EIA-846C. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information to be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, August 20, 2002.
Jay H. Casselberry,
Agency Clearance Officer, Statistics and Methods Group, Energy Information Administration.

[FR Doc. 02-21638 Filed 8-23-02; 8:45 am]

BILLING CODE 6450-01-P